DEPARTMENT OF DEFENSE

Office of the Secretary

[Transmittal No. 22-01]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-01 with attached Policy Justification and Sensitivity of Technology.

Dated: June 10, 2024.
Aaron T. Siegel,
Alternate OSD Federal Register Liaison Officer, Department of Defense.

BILLING CODE 6001-FR-P

BILLING CODE 6001-FR-C

Transmittal No. 22-01

Notice of Proposed Issuance of Letter of Offer Pursuant to Section 36(b)(1) of the Arms Export Control Act, as amended

(i) Prospective Purchaser: Government of Kuwait

(ii) Total Estimated Value:

Major Defense Equipment * | $222 million
Other | $175 million
TOTAL | $397 million

(iii) Description and Quantity or Quantities of Articles or Services under Consideration for Purchase:

Major Defense Equipment (MDE):

Sixty (60) AIM-120 C-7/8 Advanced Medium Range Air-to-Air Missiles (AMRAAMs)

Two hundred fifty (250) MK-84 General Purpose 2000LB Bombs

Five hundred one (501) MK-83 General Purpose 1000LB Bombs

Three hundred fifty (350) KMU-556 Joint Direct Attack Munition (JDAM) Tail Kits for GBU-31V1 2000LB Bombs

Seven hundred two (702) MXU-667 Air Foil Groups (AFG) for GBU-48 Enhanced Paveway II (EPW-II) 1000LB Bombs

Seven hundred two (702) MAU-210 Enhanced Computer Control Groups (ECCG) for GBU-48 Enhanced Paveway II (EPW-II) 1000LB Bombs

Non-MDE:

Also included are FMU-139 Joint Programmable Fuze Systems; AMRAAM containers; weapons support and software; inert munitions, trainers, and training equipment; bomb components; spare and repair parts; personnel training and training equipment; publications and technical documentation; U.S. Government and contractor engineering, technical, and logistics support services; and other related elements of logistical and program support.

(iv) Military Department: Air Force (KU-D-YAE)

(v) Prior Related Cases, if any: KU-D-AAC, KU-D-YAB, KU-D-YAC, KU-D-YAD

(vi) Sales Commission, Fee, etc., Paid, Offered, or Agreed to be Paid: None

(vii) Sensitivity of Technology Contained in the Defense Article or Defense Services Proposed to be Sold: See Attached Annex

(viii) Date Report Delivered to Congress: July 21, 2022

* As defined in Section 47(6) of the Arms Export Control Act.

POLICY JUSTIFICATION

Kuwait—Advanced Weapons in Support of Eurofighter Typhoon Aircraft Program

The Government of Kuwait has requested to buy sixty (60) AIM-120 C-7/8 AMRAAMs; two hundred fifty (250) MK-84 General Purpose 2000LB bombs; five hundred one (501) MK-83 General Purpose 1000LB bombs; three hundred fifty (350) KMU-556 JDAM tail kits for GBU-31V1 2000LB bombs; seven hundred two (702) MXU-667 AFG for GBU-48 EPW-II 1000LB bombs; and seven hundred two (702) MAU-210 ECCG for GBU-48 EPW-II 1000LB bombs. Also included are FMU-139 Joint Programmable Fuze Systems; AMRAAM containers; weapons support and software; inert munitions, trainers, and training equipment; bomb components; spare, repair parts; personnel training and training equipment; publications and technical documentation; U.S. Government and contractor engineering, technical, and logistics support services; and other related elements of logistical and program support. The estimated total cost is $397 million.

This proposed sale will support the foreign policy and national security objectives of the United States by helping to improve the infrastructure of a Major Non-NATO ally that has been an important force for political stability and economic progress in the Middle East.

The proposed sale will improve Kuwait's ability to meet current and future regional threats. Kuwait intends to use these missiles and munitions with the Eurofighter Typhoon fleet it is acquiring. Kuwait has shown a commitment to modernizing its military and will have no difficulty absorbing these weapons into its armed forces.

The proposed sale of this equipment and support will not alter the basic military balance in the region.

The principal contractors will be Raytheon Missiles and Defense, Tucson, AZ; and Lockheed Martin Missiles and Fire Control, Archbald, PA. Multiple end items will be procured from U.S. Government stock. There are no known offset agreements proposed in connection with this potential sale. Any offset agreements will be defined in negotiations between the purchaser and the contractor(s).

Implementation of this proposed sale will not require the assignment of any additional U.S. Government or contractor representatives to Kuwait.

There will be no adverse impact on U.S. defense readiness as a result of this proposed sale.

Transmittal No. 22-01

Notice of Proposed Issuance of Letter of Offer Pursuant to Section 36(b)(1) of the Arms Export Control Act

Annex

Item No. vii

(vii) Sensitivity of Technology:

1. The AIM-120C-7/8 AMRAAM is a supersonic, air launched, aerial intercept, guided missile featuring digital technology and micro-miniature solid-state electronics. AMRAAM capabilities include look-down/shoot-down, multiple launches against multiple targets, resistance to electronic countermeasures, and interception of high and low-flying and maneuvering targets. The AIM-120C-8 is a form, fit, function refresh of the AIM-120C-7 and is the next generation to be produced.

2. The JDAM is a guidance kit that converts existing unguided free-fall bombs into an accurate, adverse weather “smart” munition. The Guidance Set consists of a Tail Kit, which contains the Inertial Navigation System (INS) and a Global Positioning System (GPS), a set of Aerosurfaces and an umbilical cover, which allows the JDAM to improve the accuracy of unguided, General Purpose (GP) bombs. The Guidance Set, when combined with a warhead and appropriate fuze, forms a JDAM Guided Bomb Unit (GBU) and gives the bomb an adverse weather capability. The JDAM weapon can be delivered from modest standoff ranges at high or low altitudes against a variety of land and surface targets during the day or night. The JDAM is capable of receiving target coordinates via preplanned mission data from the delivery aircraft, by onboard aircraft sensors (i.e., FLIR, Radar, etc.) during captive carry, or from a third-party source via manual or automated aircrew cockpit entry.

The KMU-556 is the tail kit for a GBU-31 fitted with a 2,000LB (Mk-84 GP) bomb body.

3. GBU-48 Enhanced Paveway II (EP-II) is a maneuverable, free-fall, laser-guided bombs (LGBs) that guide to reflected laser energy from the desired target. The “enhanced” component adds GPS guidance to the laser seeker. This dual-mode capability allows the weapon to operate in all weather conditions. The LGB is delivered the same way as a normal GP warhead, except the semi-active guidance corrects for employment errors inherent in any delivery system. Laser designation for the weapon can be provided by a variety of laser target markers or designators from the air or ground. The Enhanced Paveway system consists of a non-warhead-specific Enhanced Computer Control Group (ECCG), a warhead-specific Air Foil Group (AFG) that attaches to the nose and tail of GP bomb, and a fuze. The weapon is primarily used for precision bombing against non-hardened targets.

The GBU-48 is a 1,000LB (MK-83 GP) bomb body fitted with the MXU-667 AFG and MAU-210 ECCG to guide to its laser-designated target.

4. The FMU-139 Joint Programmable Fuze (JPF) is a multi-delay, multi-arm and proximity sensor compatible with General Purpose blast, frag, and hardened-target penetrator weapons. The FMU-139 settings are cockpit selectable in flight when used with numerous precision-guided weapons. It can interface with numerous weapons, including GBU-31 and GBU-48.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Kuwait can provide substantially the same degree of protection for the sensitive technology being released as the U.S. Government. This sale is necessary in furtherance of the U.S. foreign policy and national security objectives outlined in the Policy Justification.

8. All defense articles and services listed in this transmittal are authorized for release and export to the Government of Kuwait.

[FR Doc. 2024-12943 Filed 6-12-24; 8:45 am]

BILLING CODE 6001-FR-P